COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/22/2011.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 4/29/2011 (76 FR 23998) and 5/27/2011 (76 FR 30923-30924), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Recordable DVDs and CDs

NSN: 7045-01-444-5160—Compact Disc, Recordable, Single, Silver.

NSN: 7045-00-NIB-0264—Compact Disc, Recordable, 50 CDs on Spindle, White Ink Jet Printable, Silver.

NSN: 7045-01-521-4221—Compact Disk, Recordable, 50 CDs on Spindle, Silver.

Coverage: A-List for the total Government requirement as aggregated by the Defense Logistics Agency Troop Support, Philadelphia, PA.

NSN: 7045-01-521-4250—Digital Video Disc, + Recordable Rewritable, 25 DVDs on Spindle, Silver.

NSN: 7045-01-521-4243—Digital Video Disc,—Recordable, 25 DVDs on Spindle, Silver.

NSN: 7045-01-521-4235—Digital Video Disc, + Recordable, 25 DVDs on Spindle, Silver.

NSN: 7045-01-521-4216—Compact Disc, Recordable, 25 CDs on Spindle, Silver.

Coverage: B-List for the broad Government requirement as aggregated by the Defense Logistics Agency Troop Support, Philadelphia, PA.

NPA: North Central Sight Services, Inc., Williamsport, PA.

Contracting Activity: Defense Logistics Agency Troop Support, Philadelphia, PA.

NSN: 7920-01-343-3776—Wet Mop Wringer and Bucket Set, Yellow.

NPA: New York City Industries for the Blind, Inc., Brooklyn, NY.

Contracting Activity: General Services Administration, Fort Worth, TX Coverage: A-List for the Total Government Requirement as aggregated by the General Services Administration.

Melamine Serverware (Military Resale)

NSN: M.R. 305—Melamine Dinner Plate.

NSN: M.R. 306—Melamine Fruit Plate.

NSN: M.R. 307—21oz Melamine Tumbler.

NSN: M.R. 308—Bamboo Placemat.

NPA: Industries for the Blind, Inc., West Allis, WI.

Contracting Activity: Military Resale-Defense Commissary Agency, Fort Lee, VA.

Coverage: C-List for the requirements of military commissaries and exchanges as aggregated by the Defense Commissary Agency.

NSN: 8465-01-580-1312—Bandoleer Ammunition Pouch, MOLLE Components, OCP.

NPAs: The Arkansas Lighthouse for the Blind, Little Rock, AR;

Mississippi Industries for the Blind, Jackson, MS.

Contracting Activity: Department of the Army Research, Development, & Engineering Command, Natick, MA.

Coverage: C-List for 100% of the requirement of the Department of the Army, as aggregated by the Department of the Army Research, Development, & Engineering Command, Natick, MA.

Services

Service Type/Location: HVAC/Building Maintenance Services,

White Sands Missile Range, NM.

NPA: Skookum Educational Programs, Bremerton, WA.

Contracting Activity: Dept of the Army, W6QM White Sands DOC, White Sands Missile Range, NM.

Service Type/Location: Facilities Maintenance, Yakima Training Center and Multipurpose Range Complex, Multipurpose Training Range, Yakima, WA.

NPA: Skookum Educational Programs, Bremerton, WA.

Contracting Activity: Dept of the Army, W6QM FT Lewis, Directorate of Contracting, Fort Lewis, WA.

The Committee for Purchase From People Who Are Blind or Severely Disabled (Committee) operates pursuant to statutory and regulatory requirements. The Committee regulation at 41 CFR part 51-2-4 states that for a commodity or service to be suitable for addition to the Procurement List each of the following criteria must be satisfied: Employment potential, nonprofit agency qualifications, capability, and a less than severe level of impact on the current contractor for the commodity or service.

Comments were received from a law firm on behalf of the incumbent contractor. The comments assert that the Committee should not add this project to the Procurement List for several reasons including (1) Financial impact on the current contractor; (2) the project is not appropriate for people with severe disabilities to perform; (3) the prospective nonprofit agency has no experience performing these type services; (4) the impact on employees of the contractor; and (5) this type project is not what Congress intended when enacting the Javits-Wagner-O'Day (JWOD) Act.

Information available to the Committee in considering this project indicates that there would not be a severe adverse impact to the contractor if this project is added to the Procurement List. The Committee, with its experience and expertise, has determined that people with severe disabilities are capable of performing the type of work required, and that the proposed nonprofit agency is qualified and capable of performing this work, based on applicable experience. Finally, the purpose of the JWOD Act and the responsibility of the Committee are to create employment opportunities for people with the most severe disabilities, who cannot obtain or maintain employment on their own. The remedial nature of the JWOD Act is such that Committee actions may result in an incumbent contractor not having the opportunity to compete for follow-on contracts; commercial contractors and their employees are better able to obtain employment than individuals with severe disabilities who historically have encountered greater obstacles than non-disabled employees. A planned transition period will afford incumbent employees the opportunity to continuing working while they seek other positions. Accordingly, after full consideration, the Committee has determined that the service is suitable for addition to the Procurement List.

Service Type/Location: Custodial Services, WI092 Hammond USARC, 1935 Engineer Way, Hammond, WI.

NPA: Opportunity Partners Inc., Minnetonka, MN.

Contracting Activity: Dept of the Army, W6QM Army Res Contr Ctr North, Fort McCoy, WI.

Service Type/Location: Base Operation Support Service, Department of Public Works (DPW), Fort Sill, OK.

NPAs: Professional Contract Services, Inc., Austin, TX (Prime Contractor); Work Services Corporation, Wichita Falls, TX (Subcontractor).

Contracting Activity: Dept of the Army, W6QM Ft Sam Houston Contr Ctr, Fort Sam Houston, TX.

Barry S. Lineback,
Director, Business Operations.

[FR Doc. 2011-18516 Filed 7-21-11; 8:45 am]

BILLING CODE 6353-01-P